DEPARTMENT OF JUSTICE

Lodging of Stipulation and Settlement Agreement Pursuant to the Resource Conservation and Recovery Act

In accordance with 28 CFR 50.7, the Department of Justice gives notice that a proposed stipulation and settlement agreement in United States, et al. v. Production Plated Plastics, Inc. et al., Civil No. K87-CV-138 (W.D. Mich.), was lodged with the United States District Court for the Western District of Michigan on January 3, 2000.

The United States brought its action pursuant to Section 3008(a) and (g) of the Resource Conservation and Recovery Act of 1976, as amended (“RCRA”), 42 U.S.C. 6928(a) and (g). The Complaint alleged that at relevant times the Defendants were the owners and/or operators of a manufacturing facility in Richland, Michigan (Richland Facility), where Defendants stored and disposed of hazardous waste in violation of RCRA. The Complaint sought: (1) The imposition of injunctive orders requiring Defendants to cease the improper storage and disposal of hazardous waste, and to prepare and implement closure plans for the Richland Facility's hazardous waste regulated units; and (2) the assessment of civil penalties for the alleged violations of RCRA.

The United States and its co-plaintiff, the State of Michigan, prevailed against Ladney and two other defendants in a 1992 train in this case. The proposed stipulation and settlement agreement would resolve Ladney's liability to the United States' claims against Ladney under RCRA. Ladney will be required to pay the United States $100,000.

The Department of Justice will receive, for a period of thirty (30) days from the date of this publication, comments relating to the proposed stipulation and settlement agreement. In accordance with RCRA Section 7003(d), 42 U.S.C. 6973(d), commentors also may request an opportunity for a public meeting in the affected areas to discuss the proposed covenants not to sue under RCRA Section 7003, 42 U.S.C. 6973.

All comments, and/or requests for a public meeting under RCRA Section 7003(d) should refer to United States et al. v. Production Plated Plastics, et al., Civil No. K87-CV-138 (W.D. Mich.) and DOJ Reference No. 90-7-1-377A.

The proposed stipulation and settlement agreement may be examined at: (1) The Office of the United States Attorney for the Western District of Michigan, 330 Ionia, NW., Grand Rapids, Michigan 49503, (616) 456-2404; and (2) the United States Environmental Protection Agency (Region 5), 77 West Jackson Boulevard, Chicago, Illinois 60604-3590 (contact Stuart Hersh (312)-886-6235).

A copy of the proposed stipulation and settlement agreement may also be obtained by mail from the Department of Justice Consent Decree Library, P.O. Box 7611, Washington, DC 20044. In requesting a copy, please refer to the reference case and DOJ Reference Number and enclose a check in the amount of $3.50 for the document (14 pages at 25 cents per page reproduction costs), made payable to the Consent Decree Library.

Joel M. Gross,
Chief, Environmental Enforcement Section, Environment and Natural Resources Division.

[FR Doc. 00-1679 Filed 1-24-00; 8:45 am]

BILLING CODE 4410-15-M